DEPARTMENT OF THE INTERIOR

Bureau of Land Management

[LLAZ910000.L12100000.XP0000 19X 6100.241A]

State of Arizona Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM), Arizona Resource Advisory Council (RAC) will meet in Phoenix, Arizona, as indicated below.

DATES: The RAC will hold a 2-day public meeting on November 13-14, 2019. The meeting will be held each day from 8:30 a.m. to 4:30 p.m.

ADDRESSES: The meeting will be held in the 8th floor conference room at the BLM Arizona State Office located at One North Central Avenue, Suite 800, Phoenix, Arizona, 85004-4427. The final agenda will be posted on the BLM Arizona RAC website at: https://www.blm.gov/get-involved/resource-advisory-council/near-you/arizona.

FOR FURTHER INFORMATION CONTACT: Dolores Garcia, Public Affairs Specialist, at the BLM, Arizona State Office, One North Central Avenue, Suite 800, Phoenix, Arizona, 85004-4427, telephone: 602-417-9241 or email: dagarcia@blm.gov. Persons who use a telecommunications device for the deaf (TDD) may call the Federal Relay Service (FRS) at 1-800-877-8339 to contact Ms. Garcia during normal business hours. The FRS is available 24 hours a day, 7 days a week, to leave a message or question. You will receive a reply during normal business hours. Individuals who need special assistance, such as sign language interpretation or other reasonable accommodations, should contact Ms. Garcia no later than 2 weeks before the start of the meeting.

SUPPLEMENTARY INFORMATION: The 15-member Council advises the Secretary of the Interior, through the BLM, on a variety of planning and management issues associated with public land management in Arizona.

Agenda items will include updates on BLM project work in compliance with Department of the Interior priorities and Secretary's Orders; resource management updates, including vegetation management and monitoring initiatives; Range Standards and Guidelines Training; District updates, and public comment. In addition to those BLM agenda items, the Recreation RAC will consider nine U.S. Forest Service fee proposals for the Kaibab and Coronado National Forests in Arizona. A RAC working group review of the proposals is planned for the afternoon of November 13, with a formal Recreation RAC session, planned for November 14, including a special public comment period related to the fee proposals at 2:00 p.m.

The public may address the RAC on BLM-related topics in person or submit a written statement on November 14, 2019, at around 3 p.m. Depending on the number of persons wishing to speak, and the time available, the time for individual comments may be limited. Written comments may also be sent to the BLM Arizona State Office at the address listed in the ADDRESSES section of this notice. All comments received will be provided to the Arizona RAC.

Before including your address, phone number, email address, or other personal identifying information in your comment, you should be aware that your entire comment—including your personal identifying information—may be made publicly available at any time. While you can ask us in your comment to withhold your personal identifying information from public review, we cannot guarantee that we will be able to do so.

(Authority: 43 CFR 1784.4-2)

Raymond Suazo,
Arizona State Director.

[FR Doc. 2019-22217 Filed 10-9-19; 8:45 am]

BILLING CODE 4310-32-P